DEPARTMENT OF LABOR

Office of the Secretary

Submission for OMB Emergency Review; Comment Request

April 10, 2002.

The Department of Labor has submitted the following information collection request (ICR), utilizing emergency review procedures, to the Office of Management and Budget (OMB) for review and clearance in accordance with the Paperwork Reduction Act of 1995 (Pub. L. 104-13, 44 U.S.C. Chapter 35). OMB approval has been requested by May 15, 2002. A copy of this ICR, with applicable supporting documentation, may be obtained by calling the Department of Labor. To obtain a copy of this ICR, contact Darrin King on 202-693-4129 or Email: king-darrin@do.gov.

Comments and questions about the ICR listed below should be submitted to the Office of Information and Regulatory Affairs, Attn: OMB Desk Officer for the Department of Labor, Office of Management and Budget, Room 10235, Washington, DC 20503 (202-395-7316), and received by May 15, 2002.

The Office of Management and Budget is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

Agency: Women's Bureau (WB).

Title: Women in Apprenticeship and Nontraditional Occupations (WANTO) Act Grant Application and Reporting Requirements.

OMB Number: 1225-0NEW.

Affected Public: Not-for-profit institutions.

Type of Response: Reporting.

Number of Respondents: 40.

Requirement | Frequency | Estimated number of reponses | Average response time (hours) | Estimated annual burden hours
Grant Application
Previous Applicant | Annually | 30 | 6 | 180
New Applicant | Annually | 10 | 12 | 120
Quarterly Reports
Previous Applicant | Quarterly | 9 | 2 | 72
New Applicant | Quarterly | 3 | 5 | 60
Final Report
Previous Applicant | Annually | 9 | 4 | 36
New Applicant | Annually | 3 | 10 | 30
Totals |  | 64 |  | 498

Total Burden Cost (capital/startup): $0.

Total Burden Cost (operating/maintaining): $0.

Description: This collection of information is needed for the Department of Labor to make a selection of annual Women in Apprenticeship and Nontraditional Occupations (WANTO) grant awardees, as well as to monitor grant administration.

Ira L. Mills,
Departmental Clearance Officer.

[FR Doc. 02-9651 Filed 4-18-02 8:45 am]

BILLING CODE 4510-23-M